ENVIRONMENTAL PROTECTION AGENCY

40 CFR Parts 52 and 62

[EPA-R07-OAR-2023-0199; FRL-10830-01-R7]

Approval of State Plans for Designated Facilities and Pollutants; MO; Approval and Promulgation of Implementation Plans; Control of Emissions From Existing Municipal Solid Waste Landfills

AGENCY: Environmental Protection Agency (EPA).

ACTION: Proposed rule.

SUMMARY: The Environmental Protection Agency (EPA) is proposing to approve a Clean Air Act (CAA) plan and two state rules submitted by the Missouri Department of Natural Resources (MoDNR) on July 25, 2022. This plan was submitted to fulfill the state's obligations under the CAA to implement and enforce the requirements of the Emissions Guidelines and Compliance Times for municipal solid waste (MSW) landfills. This plan includes an inventory of affected sources and explains how the state rules fulfill the regulatory requirements needed for EPA to approve the plan. In addition, the EPA is proposing to approve a revision to the State Implementation Plan (SIP) submitted by MoDNR for the purpose of revising the Missouri rule entitled “Municipal Solid Waste Landfills” to incorporate by reference Emission Guidelines (EG) for MSW landfills. EPA is proposing to approve this SIP revision based on EPA's finding that the rule is as stringent as the rule it replaces and fulfills the requirements of the CAA for the protection of the ozone National Ambient Air Quality Standards (NAAQS) in St. Louis.

DATES: Comments must be received on or before September 20, 2023.

ADDRESSES: You may send comments, identified by Docket ID No. EPA-R07-OAR-2023-0199 to www.regulations.gov. Follow the online instructions for submitting comments.

Instructions: All submissions received must include the Docket ID No. for this rulemaking. Comments received will be posted without change to www.regulations.gov, including any personal information provided. For detailed instructions on sending comments and additional information on the rulemaking process, see the “Written Comments” heading of the SUPPLEMENTARY INFORMATION section of this document.

FOR FURTHER INFORMATION CONTACT: Allyson Prue, Environmental Protection Agency, Region 7 Office, Air Permitting and Planning Branch, 11201 Renner Boulevard, Lenexa, Kansas 66219; telephone number: (913) 551-7277; email address: prue.allyson@epa.gov.

SUPPLEMENTARY INFORMATION: Throughout this document “we,” “us,” and “our” refer to the EPA.

Table of Contents

I. Written Comments

II. What is being addressed in this document?

III. CAA 111(d) and Landfill Emission Guidelines Background

IV. Background for Missouri's Municipal Solid Waste Landfill Rule for the St. Louis Ozone Nonattainment Area

V. Summary and Analysis of the 111(d) Plan Submittal

VI. Summary and Analysis of Missouri's SIP Revision

VII. Proposed Action

VIII. Incorporation by Reference

IX. Statutory and Executive Order Review

I. Written Comments

Submit your comments, identified by Docket ID No. EPA-R07-OAR-2023-0199, at www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit www.epa.gov/dockets/commenting-epa-dockets.

II. What is being addressed in this document?

EPA is proposing to approve Missouri's section 111(d) State Plan for Existing MSW Landfills (Missouri's section 111(d) State Plan) and two state rules accompanying the plan pursuant to 40 CFR part 60, subparts B and Cf. Missouri state rule 10 Code of State Regulations (CSR) 10-6.310 “Restriction of Emissions from Municipal Solid Waste Landfills” (which covers all areas of Missouri except St. Louis) and 10 CSR 10-5.490 “Municipal Solid Waste Landfills” (which covers the St. Louis area) provide the enforceable portion of Missouri's section 111(d) State Plan. The state rules incorporate by reference the federal plan located at 40 CFR part 62, subpart OOO as the underlying rule which implements and enforces the applicable provisions under the 2016 MSW landfill EG at 40 CFR part 60, subpart Cf.

As part of this action, EPA is also proposing to approve the revision to 10 CSR 10-5.490, which implements the 2016 MSW landfill EG at more stringent thresholds in the St. Louis ozone nonattainment area, into Missouri's SIP. EPA's proposed approval of 10 CSR 10-5.490 is in accordance with section 110 of the CAA and 40 CFR part 51.

EPA's detailed rationale and discussion concerning Missouri's section 111(d) State Plan, including the revisions to 10 CSR 10-6.310 and 10 CSR 10-5.490 can be found in the EPA Technical Support Document (TSD), located in the docket for this rulemaking.

III. CAA 111(d) and Landfill Emission Guidelines Background

Section 111 of the CAA, “Standards of Performance for New Stationary Sources,” directs the EPA to establish emission standards for stationary sources of air pollution that could potentially endanger public health or welfare. These standards are referred to as New Source Performance Standards (NSPS). Section 111(b) directs EPA to publish and periodically revise a list of categories of stationary sources which cause or significantly contribute to air pollution, and to establish NSPS within these categories. Section 111(b)(1)(B) applies to new sources.

When NSPS are promulgated for new sources, section 111(d) and EPA regulations require that the EPA publish an Emission Guideline (EG) to regulate the same pollutants from existing facilities. Section 111(d) addresses the process by which the EPA and states regulate standards of performance for existing sources belonging to those categories established in section 111(b). While NSPS are directly applicable to new sources, EGs for existing sources (designated facilities) are intended for states to use to develop a state plan to submit to the EPA.

EPA established requirements for state plan submittals in 40 CFR part 60, subpart B. State submittals under CAA section 111(d) must be consistent with the relevant emission guidelines, in this instance 40 CFR part 60, subpart Cf, and the requirements of 40 CFR part 60, subpart B, and 40 CFR part 62, subpart A. If the state plan is complete and approvable with reference to these requirements, EPA notifies the public, promulgates the plan pursuant to 40 CFR part 62, and delegates implementation and enforcement of the standards and requirements of the emission guidelines to the state under the terms of the state plan as published in the CFR. Once approved by the EPA, the state plan becomes federally enforceable. If a State does not submit an approvable state plan to the EPA, the EPA is responsible for developing, implementing, and enforcing a Federal plan.

The MSW landfills NSPS for new landfills and EG for existing landfills were first promulgated by the EPA on March 12, 1996, in 40 CFR part 60, subparts WWW and Cc, respectively (61 FR 9905). We first approved Missouri's section 111(d) plan for MSW landfills on April 24, 1998 (63 FR 20320). On August 29, 2016, EPA finalized revised Standards of Performance for new MSW landfills and Emission Guidelines and Compliance Times for Existing MSW Landfills (2016 MSW Landfills EG) in 40 CFR part 60, subparts XXX and Cf, respectively (81 FR 59331 and 81 FR 59275). The 2016 MSW Landfills EG revision updates the control requirements and monitoring, reporting, and recordkeeping provisions for existing MSW landfill sources.

On May 21, 2021, EPA finalized a federal plan to implement the 2016 MSW Landfills EG where state plans were not in effect (86 FR 27756). On July 25, 2022, MoDNR submitted to EPA a formal section 111(d) plan and two state rules for existing MSW landfills. These rules are 10 CSR 10-6.310 “Restriction of Emissions from Municipal Solid Waste Landfills” (which covers all areas of Missouri except St. Louis) and 10 CSR 10-5.490 “Municipal Solid Waste Landfills” (which covers the St. Louis area). The state rules incorporate by reference the federal plan located at 40 CFR part 62, subpart OOO to use as the underlying rule which implements and enforces the applicable provisions under the 2016 MSW landfill EG at 40 CFR part 60, subpart Cf.

For the reasons discussed below, EPA proposes to find that Missouri's section 111(d) State Plan meets the relevant requirements of the CAA section 111(d) implementing regulations at 40 CFR part 60, subpart B and 40 CFR part 60, subpart Cf.

IV. Background for Missouri's Municipal Solid Waste Landfill Rule for the St. Louis Ozone Nonattainment Area

The St. Louis area was designated nonattainment for the 1-hour ozone standard in 1978 (43 FR 8962). On November 6, 1991, the EPA promulgated a regulation which classified the St. Louis area as a moderate ozone nonattainment area (56 FR 56694). The nonattainment area consisted of Madison, Monroe, and St. Claire counties in Illinois; and Franklin, Jefferson, St. Charles, and St. Louis counties and St. Louis City in Missouri. The St. Louis area is currently designated nonattainment for the 8-hour (2015) ozone standard (83 FR 25776 ¹).

¹ The 2015 8-hour ozone nonattainment designation included part of Franklin County (Boles Township), St. Charles County, St. Louis County, and the City of St. Louis in Missouri, and Madison and St. Clair counties in Illinois.

Section 182(b)(1)(A) of the Act requires that each state in which all or part of a moderate ozone nonattainment area is located submit a SIP revision providing for a 15 percent reduction in emissions of volatile organic compounds. These plans are commonly referred to as Rate of Progress Plans (ROPP).

EPA approved Missouri's 15 percent ROPP on May 18, 2000 (65 FR 31485). Missouri's 15 percent ROPP included state rule 10 CSR 10-5.490, “Control of Emissions from Municipal Solid Waste Landfills,” that required the use of gas collection systems to reduce VOC emissions by 98% at six municipal solid waste landfills in the St. Louis area. The rule has been subsequently revised to maintain consistency with federal requirements, with the most recent revision approved by EPA on April 15, 2014 (79 FR 21187).

Missouri revised 10 CSR 10-5.490 to implement the 2016 MSW landfill EG at more stringent thresholds in the St. Louis ozone nonattainment area and submitted the rule to EPA for approval as part of Missouri's section 111(d) State Plan and for approval as a revision to Missouri's SIP in accordance with section 110 of the CAA. For the reasons discussed below, EPA proposes to find that Missouri's submission meets the applicable requirements of section 110 of the CAA and 40 CFR part 51.

V. Summary and Analysis of the 111(d) Plan Submittal

The EPA has reviewed Missouri's section 111(d) State Plan in the context of the plan completeness and approvability requirements of 40 CFR part 60, subparts B and Cf, and part 62, subpart A. EPA's detailed rationale and discussion concerning Missouri's section 111(d) State Plan can be found in the EPA TSD located in the docket for this rulemaking. As detailed in the TSD, the state followed all applicable administrative procedures in proposing and adopting these rule and plan actions in accordance with 40 CFR parts 60, subpart B, §§ 60.23 through 60.26.

Included within Missouri's section 111(d) State Plan are revisions to 10 CSR 10-5.490 “Municipal Solid Waste Landfills”; and 10 CSR 10-6.310 “Restriction of Emissions from Municipal Solid Waste Landfills”. These state rules incorporate by reference the new federal emissions thresholds and compliance schedules (40 CFR part 62, subpart OOO) for MSW landfills that accepted waste after November 8, 1987, and commenced construction, reconstruction, or modification before July 17, 2014.

Missouri's section 111(d) State Plan further describes how each requirement of the federal regulations is met by the state plan and rules. One element of this plan is the required inventory of affected landfills in the state. This inventory is contained in Table 1 of the state's submission which is included in the docket for this action. The state also met the public notice requirements for the plan and rules as demonstrated in Chapter 11 of the state's submittal. Table 2 of the state plan includes the compliance schedule for existing MSW landfills which is identical to the federal plan.

As required by 40 CFR 60.24, Missouri identified 10 CSR 10-5.490 and 10 CSR 10-6.310 as the enforceable state mechanisms that implement the MSW EGs. The state rules apply to each MSW landfill that has accepted waste at any time since November 8, 1987 or has additional design capacity available for future waste deposition, and that commenced construction, reconstruction, or modification on or before July 17, 2014. The state rules reference the appropriate section of 40 CFR part 62, subpart OOO for each relevant requirement such as compliance times, test methods, monitoring, recordkeeping and reporting. The provisions of 40 CFR part 62, subpart OOO are consistent with the requirements of 40 CFR part 60, subpart Cf. EPA finds this method of directly referencing federal regulations for each requirement sufficient to ensure the accurate version of requirements is referenced for affected facilities.

EPA continues to retain the following authorities that are not delegable to state agencies as described in 40 CFR 62.16710(b): Approval of alternative methods to determine the site-specific nonmethane organic compounds (NMOC) concentration or a site-specific methane generation rate constant (k); Alternative emission standards; Major alternatives to test methods (Major alternatives to test methods or to monitoring are modifications made to a federally enforceable test method or to a Federal monitoring requirement that may involve the use of unproven technology or modified procedures or an entirely new method); and waivers of recordkeeping. If a design plan includes alternative requests under 40 CFR 62.16710(b), MoDNR must forward the design plan to EPA for review and approval prior to its action on the design plan.

State rule 10 CSR 10-5.490 applies to the St. Louis area, consisting of St. Louis City and Franklin, Jefferson, St. Charles, and St. Louis Counties. The requirements contained in state rule 10 CSR 10-5.490 are identical to 40 CFR part 62, subpart OOO except that the state rule implements a smaller landfill size limit and a lower emission cutoff limit that triggers requirements for a landfill gas collection and control system (GCCS). State rule 10 CSR 10-6.310 applies statewide to affected facilities. Landfills in the St. Louis area covered by 10 CSR 10-5.490 are exempt from this statewide rule. The requirements in the state rule are identical to 40 CFR part 62, subpart OOO.

The Missouri submittal package includes all materials necessary to be deemed administratively and technically complete according to the criteria of 40 CFR 60.27. Missouri notified the public on December 27, 2021 concerning the proposed 111(d) plan and held a public hearing on January 27, 2022. The state's public comment period opened on December 27, 2021 and closed on February 3, 2022.

VI. Summary and Analysis of Missouri's SIP Revision

Missouri revised 10 CSR 10-5.490 to implement the 2016 MSW landfill EG at more stringent thresholds in the St. Louis ozone nonattainment area. The emission standards and compliance schedules from 40 CFR part 62, subpart OOO are incorporated by reference into 10 CSR 10-5.490. The requirements that apply to existing MSW landfills with design capacities equal to or greater than 2.5 million Mg and 2.5 million m³ in subpart OOO apply to MSW landfills in the St. Louis area if their design capacities are 1.0 million Mg and 1.0 million m³. The emission threshold at which landfills must install and operate GCCS in the St. Louis area rule is 25 Mg per year, as opposed to 34 Mg per year (50 Mg per year for closed landfills) in subpart OOO. The lower thresholds in 10 CSR 10-5.490 also apply to closed landfills that seek to discontinue their GCCS.

The lower design capacity thresholds and emission thresholds in the revision to 10 CSR 10-5.490 are identical to the design capacity thresholds and emission thresholds previously approved into the SIP by EPA and as part of Missouri's 15 Percent Rate of Progress Plan. Missouri's incorporation by reference of 40 CFR part 62, subpart OOO imposes more stringent requirements on existing landfills in the St. Louis area than those imposed on landfills under the previously SIP-approved version of 10 CSR 10-5.490. As such, EPA proposes to find that the revisions to 10 CSR 10-5.490 do not interfere with any applicable requirement concerning attainment and reasonable further progress or any other applicable requirement of the CAA and are therefore consistent with the requirements of section 110(l) of the CAA.

The State submission has met the public notice requirements for SIP submissions in accordance with 40 CFR 51.102. The submission also satisfied the completeness criteria of 40 CFR part 51, appendix V. The State provided public notice on this SIP revision from December 27, 2021 to February 3, 2022 and held a public hearing on January 27, 2022. The State received one comment on 10 CSR 10-5.490 concerning incorporation by reference of federal requirements and modified the rule in response.

As explained above and in more detail in the TSD, which is part of this docket, the revision meets the substantive SIP requirements of the CAA, including section 110 and implementing regulations. In accordance with section 110 of the CAA and 40 CFR part 51, EPA is proposing to approve 10 CSR 10-5.490 into Missouri's SIP.

VII. Proposed Action

The EPA is proposing to determine that Missouri's section 111(d) State Plan and associated state rules satisfy the requirements of 40 CFR part 60, subparts B and Cf.

The EPA is proposing to approve the Missouri section 111(d) plan and the two state rules for MSW landfills pursuant to 40 CFR part 60, subparts B and Cf. Therefore, EPA is proposing to amend 40 CFR part 62, subpart AA, to reflect this action. The EPA's final approval of Missouri's section 111(d) plan will result in the replacement of the federal plan currently in place in the State of Missouri with the state plan being proposed for approval. The state plan does not extend any reporting or compliance deadlines stipulated in the current federal plan.

The EPA is also proposing to approve the July 30, 2022 state effective version of 10 CSR 10-5.490, which incorporates requirements established in EPA's updated Emission Guidelines, into the Missouri SIP replacing the prior SIP-approved version of the state rule. EPA is proposing to amend 40 CFR part 52, subpart AA, to reflect this action.

We are processing this as a proposed action because we are soliciting comments on this proposed action. Final rulemaking will occur after consideration of any comments.

VIII. Incorporation by Reference

In this document, EPA is proposing to include regulatory text in an EPA final rule that includes incorporation by reference. In accordance with requirements of 1 CFR 51.5, EPA is proposing to incorporate by reference Missouri state rules 10 CSR 10-5.490 and 10 CSR 10-6.310, effective July 30, 2022, which regulate municipal solid waste landfills, as discussed in detail in Section V. of this preamble, into 40 CFR part 62. EPA is also proposing to incorporate by reference Missouri state rule 10 CSR 10-5.490, state effective July 30, 2022, which regulates municipal solid waste landfills in the St. Louis area, as discussed in detail in Section VI. of this preamble, into 40 CFR part 52. EPA has made, and will continue to make, these materials generally available through the docket for this action, EPA-R07-OAR-2023-0199, at www.regulations.gov and at the EPA Region 7 Office (please contact the person identified in the FOR FURTHER INFORMATION CONTACT section of this preamble for more information).

IX. Statutory and Executive Order Review

Under the CAA, the Administrator is required to approve a SIP submission that complies with the provisions of the CAA and applicable Federal regulations. 42 U.S.C. 7410(k); 40 CFR 52.02(a). Under the CAA, the Administrator is required to approve a CAA section 111(d) submission that complies with the provisions of the CAA and applicable Federal regulations. 42 U.S.C. 7411(d); 42 U.S.C. 7429; 40 CFR part 60, subparts B and Cf; and 40 CFR part 62, subparts A and OOO. Thus, in reviewing CAA section 111(d) state plan submissions and SIP submissions, the EPA's role is to approve state choices provided that they meet the minimum criteria of the CAA. Accordingly, this proposed action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act;

In addition, the SIP and the CAA section 111(d) submission is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

MoDNR did not evaluate environmental justice considerations as part of its 111(d) plan and SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects

40 CFR Part 52

Environmental protection, Air pollution control, Incorporation by reference, Intergovernmental relations, Ozone, Particulate matter, Reporting and recordkeeping requirements, Volatile organic compounds.

40 CFR Part 62

Environmental protection, Administrative practice and procedure, Air pollution control, Incorporation by reference, Intergovernmental relations, Reporting and recordkeeping requirements.

Dated: August 11, 2023.
Meghan A. McCollister,
Regional Administrator, Region 7.

For the reasons stated in the preamble, the EPA proposes to amend 40 CFR parts 52 and 62 as set forth below:

PART 52—APPROVAL AND PROMULGATION OF IMPLEMENTATION PLANS

1. The authority citation for part 52 continues to read as follows:

Authority: 42 U.S.C. 7401 et seq.

Subpart AA-Missouri

2. In § 52.1320, the table in paragraph (c) is amended by revising the entry “10-5.490” to read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.490 | Municipal Solid Waste Landfills | July 30, 2022 | [Date of publication of the final rule in the Federal Register], [Federal Register citation of the final rule] |
* * * * * * *

* * * * *

PART 62—APPROVAL AND PROMULGATION OF STATE PLANS FOR DESIGNATED FACILITIES AND POLLUTANTS

3. The authority citation for part 62 continues to read as follows:

Authority: 42 U.S.C. 7401 et seq.

Subpart AA—Missouri Air Emissions From Existing Municipal Solid Waste Landfills

4. Revise § 62.6357 to read as follows:

§ 62.6357 Missouri Department of Natural Resources.

(a) Identification of plan. Missouri plan for control of landfill gas emissions from existing municipal solid waste landfills and associated state regulations submitted on January 26, 1998, with amendments on September 8, 2000, February 9, 2012, and July 25, 2022. The plan includes the regulatory provisions cited in paragraph (d) of this section, which EPA incorporates by reference.

(b) Identification of sources. The plan applies to all existing municipal solid waste landfills for which construction, reconstruction, or modification was commenced before May 30, 1991, that accepted waste at any time since November 8, 1987, or that have additional capacity available for future waste deposition, and have design capacities greater than 2.5 million megagrams and nonmethane organic emissions greater than 50 megagrams per year, as described in 40 CFR part 60, subpart Cc.

(c) Effective date. The effective date of the plan for municipal solid waste landfills is June 23, 1998. The amendments are effective January 16, 2001, May 30, 2012, and [date 30 days after date of publication of the final rule in the Federal Register], respectively.

(d) Incorporation by reference. (1) The material incorporated by reference in this section was approved by the Director of the Federal Register Office in accordance with 5 U.S.C. 552(a) and 1 CFR part 51. Copies of the material may be inspected or obtained from the EPA Region 7 office, 11201 Renner Boulevard, Lenexa, Kansas 66219, 913-551-7003, or from the source in paragraph (d)(2) of this section. Copies may be inspected at the National Archives and Records Administration (NARA). For information on the availability of this material at NARA, visit www.archives.gov/federal-register/cfr/ibr-locations.html or email fr.inspection@nara.gov.

(2) State of Missouri, 600 West Main Street, Jefferson City, Missouri 65101, 573-751-4015.

(i) 10 CSR 10-5.490, Municipal Solid Waste Landfills, effective July 30, 2022.

(ii) 10 CSR 10-6.310, Restriction of Emissions from Municipal Solid Waste Landfills, effective July 30, 2022.

[FR Doc. 2023-17690 Filed 8-18-23; 8:45 am]

BILLING CODE 6560-50-P